COMMISSION ON CIVIL RIGHTS

Agenda and Notice of Public Meeting of the Rhode Island Advisory Committee

Notice is hereby given, pursuant to the provisions of the rules and regulations of the U.S. Commission on Civil Rights and the Federal Advisory Committee Act, that a planning meeting of the Rhode Island Advisory Committee will convene at 9 a.m. on Tuesday, April 7, 2009, at the Rhode Island Urban League, 246 Prairie Avenue, Providence, Rhode Island. The purpose of the planning meeting is for the Committee to work on its racial profiling report.

Members of the public are entitled to submit written comments. The address is U.S. Commission on Civil Rights, Eastern Regional Office, 624 Ninth Street NW., Suite 740, Washington, DC 20425. Persons wishing to e-mail their comments, present their comments at the meeting, or who desire additional information should contact Alfreda Greene, Secretary, at 202-376-7533 or by e-mail to: ero@usccr.gov.

Hearing-impaired persons who will attend the meeting and require the services of a sign language interpreter should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the rules and regulations of the Commission and FACA.

Dated in Washington, DC, March 13, 2009.
Christopher Byrnes,
Chief, Regional Programs Coordination Unit.

[FR Doc. E9-5859 Filed 3-18-09; 8:45 am]

BILLING CODE 6335-01-P